DEPARTMENT OF COMMERCE

Foreign-Trade Zones Board

[B-22-2014]

Foreign-Trade Zone 26—Atlanta, Georgia, Application for Additional Production Authority, PBR, Inc. d/b/a SKAPS Industries, (Non-Woven Geotextiles), Athens, Georgia

An application has been submitted to the Foreign-Trade Zones (FTZ) Board by the Georgia Foreign-Trade Zone, Inc., grantee of FTZ 26, requesting additional production authority on behalf of PBR, Inc. d/b/a SKAPS Industries (SKAPS), located in Athens, Georgia. The application conforming to the requirements of the regulations of the FTZ Board (15 CFR 400.23) was docketed on March 12, 2014.

The SKAPS facilities (185 employees) are located within Site 29 of FTZ 26. The facilities are used for the production of non-woven geotextile fabric using polypropylene staple fiber. SKAPS requested FTZ production authority in a notification proceeding (15 CFR 400.22) in 2013 (see, 78 FR 54234, 9-3-2013; Doc. B-37-2013). After an initial review, the requested production authority was limited to a five-year initial term, as well as a restriction that precludes inverted tariff benefits on foreign polypropylene staple fiber used in production of non-woven geotextile fabrics for U.S. consumption.

The pending application seeks to remove the above-mentioned restriction by requesting authority for SKAPS to choose the duty rate during customs entry procedures that applies to non-woven geotextile fabrics (duty rate—free) for the polypropylene staple fiber (duty rate—4.3%) sourced from abroad. The request indicates that the savings related to inverted tariff benefits on polypropylene staple fiber used in production for the U.S. market would further improve the facilities' international competitiveness.

In accordance with the FTZ Board's regulations, Pierre Duy of the FTZ Staff is designated examiner to evaluate and analyze the facts and information presented in the application and case record and to report findings and recommendations to the FTZ Board.

Public comment is invited from interested parties. Submissions shall be addressed to the FTZ Board's Executive Secretary at the address below. The closing period for their receipt is May 20, 2014. Rebuttal comments in response to material submitted during the foregoing period may be submitted during the subsequent 15-day period to May 20, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov (202) 482-1378.

Dated: March 12, 2014.
Andrew McGilvray,
Executive Secretary.

[FR Doc. 2014-06248 Filed 3-20-14; 8:45 am]

BILLING CODE 3510-DS-P